DEPARTMENT OF THE INTERIOR

Fish and Wildlife Service

Endangered Species Permit Application

AGENCY: Fish and Wildlife Service, Interior.

ACTION: Notice of Regional Director's Permit Amendment (TE-676811-1).

SUMMARY: The Regional Director, Region 2, U.S. Fish and Wildlife Service, Albuquerque, New Mexico (Applicant), requests authorization to amend U.S. Fish and Wildlife Service Endangered Species Permit TE-676811, from September 1, 2000 through December 31, 2003. This amendment updates the Regional Director's permit to include species that have recently been listed. The permit allows “take” of species listed as threatened or endangered under the Endangered Species Act for scientific research and recovery purposes or the enhancement of propagation or survival for approved recovery activities. This notice is provided pursuant to section 10(a)(1)(A) of the Endangered Species Act of 1973, as amended (16 U.S.C. 1531, et seq.).

DATES: Written comments on this permit amendment must be received on or before December 15, 2000.

ADDRESSES: Written data or comments should be submitted to the Legal Instruments Examiner, Division of Endangered Species/Permits, Ecological Services, P.O. Box 1306, Albuquerque, New Mexico 87103. Please refer to the permit number for this application when submitting comments. All comments received, including names and addresses, will become part of the official administrative record and may be made available to the public.

FOR FURTHER INFORMATION CONTACT: U.S. Fish and Wildlife Service (see address above). Please refer to the permit number for this amendment when requesting copies of documents. Documents and other associated information are available for review, subject to the requirements of the Privacy Act and Freedom of Information Act, by any party who submits a written request for a copy of such documents within 30 days of the date of publication of this notice, to the address above.

Bryan Arroyo,
Assistant Regional Director, Ecological Services, Region 2, Fish and Wildlife Service.

[FR Doc. 00-29126 Filed 11-14-00; 8:45 am]

BILLING CODE 4510-55-U